DEPARTMENT OF STATE

[Public Notice 8794]

In the Matter of the Designation of Anders Cameroon Ostensvig Dale Also Known as Muslim Abu Abdurrahman; Also Known as Abu Abdurrahman the Norwegian; Also Known as Abu Abdurrahman the Moroccan; as a Specially Designated Global Terrorist Pursuant to Section 1(b) of Executive Order 13224, as Amended

Acting under the authority of and in accordance with section 1(b) of Executive Order 13224 of September 23, 2001, as amended by Executive Order 13268 of July 2, 2002, and Executive Order 13284 of January 23, 2003, I hereby determine that the individual known as Anders Cameroon Ostensvig Dale, also known as Muslim Abu Abdurrahman, also known as Abu Abdurrahman the Norwegian, also known as Abu Abdurrahman the Moroccan, committed, or poses a significant risk of committing, acts of terrorism that threaten the security of U.S. nationals or the national security, foreign policy, or economy of the United States.

Consistent with the determination in section 10 of Executive Order 13224 that “prior notice to persons determined to be subject to the Order who might have a constitutional presence in the United States would render ineffectual the blocking and other measures authorized in the Order because of the ability to transfer funds instantaneously,” I determine that no prior notice needs to be provided to any person subject to this determination who might have a constitutional presence in the United States, because to do so would render ineffectual the measures authorized in the Order.

This notice shall be published in the Federal Register.

Dated: June 16, 2014.
John F. Kerry,
Secretary of State.

[FR Doc. 2014-16628 Filed 7-15-14; 8:45 am]

BILLING CODE 4710-10-P